ENVIRONMENTAL PROTECTION AGENCY

[FRL-7263-3]

Meeting of the Drinking Water Contaminant Candidate List Classification Process Working Group and Small Systems Affordability Working Group of the National Drinking Water Advisory Council

AGENCY: Environmental Protection Agency (EPA).

ACTION: Notice of public meeting.

SUMMARY: Under section 10(a)(2) of Public Law 92-423, “The Federal Advisory Committee Act,” notice is hereby given of the forthcoming meetings of the Drinking Water Contaminant Candidate List (CCL) Classification Process Work Group, and the Small Systems Affordability Work Group, of the National Drinking Water Advisory Council, established under the Safe Drinking Water Act, as amended (42 U.S.C. S300f et seq.).

DATES: The CCL work group will meet on September 18-19, 2002 (9 a.m.-5 p.m. EDT on September 18 and 8 a.m.-3:30 p.m. EDT on September 19). The affordability work group will meet on September 11-12, 2002 (9 a.m.-5:15 p.m. EDT on September 11 and 8:30 a.m.-3:15 p.m. EDT on September 12).

ADDRESSES: Both meetings will be held at RESOLVE Inc., 1255 23rd Street, NW., Suite 275, Washington, DC and are open to the public, but from past experience, seating will likely be limited.

FOR FURTHER INFORMATION CONTACT: For more information on the location and times of these meetings, or general background information please contact the Safe Drinking Water Hotline (phone: 800-426-4791 or (703) 285-1093; e-mail: hotline-sdwa@epa.gov). Members of the public are requested to contact RESOLVE if they plan on attending at (202) 944-2300. Any person needing special accommodations at either of these meetings, including wheelchair access, should contact RESOLVE (contact information previously noted), at least five business days before the meeting so that appropriate arrangements can be made. For technical information contact Dr. Jitendra Saxena, Designated Federal Officer, CCL Classification Process Work Group, U.S. Environmental Protection Agency, Office of Ground Water and Drinking Water (4607M), 1200 Pennsylvania Avenue, NW., Washington, DC 20460 (e-mail: saxena.jitendra@epa.gov; Tel. 202-564-5243), and Mr. Amit Kapadia, Designated Federal Officer, Small Systems Affordability Work Group at the same address (e-mail: kapadia.amit@epa.gov; Tel: 202-564-4879).

SUPPLEMENTARY INFORMATION:

Drinking Water Contaminants Candidate List Work Group Meeting

The CCL serves as the primary source of priority contaminants for research and regulatory evaluations for the Agency's drinking water program. The list is comprised of both chemical and microbial contaminants that are known or anticipated to occur in public water systems, and may have adverse health effects, and which at the time of publication are not subject to any proposed or promulgated National Primary Drinking Water Regulations (NPDWRs). EPA has formed a CCL Classification Process Work Group of the National Drinking Water Advisory Council (NDWAC) to help the Agency in developing a new risk based priority setting process based upon the recommendations made by the National Research Council (NRC) in its 2001 report.

The work group is comprised of recognized technical experts representing an array of backgrounds and perspectives who are as impartial and objective as possible. The purpose of the meeting is to provide advice to the NDWAC as it develops recommendations for the U.S. Environmental Protection Agency on the classification process EPA ought to use to develop its list of candidate contaminants. The work group is charged with discussing, evaluating, and providing advice on methodologies, activities, and analysis needed to implement the National Research Council's recommendations on an expanded approach for the CCL listing process. This may include advice on developing and identifying: (1) Overall implementation strategy, (2) classification attributes and criteria, (3) pilot projects to validate new classification approaches, (4) risk communication issues, and (5) additional issues not addressed in the NRC Report.

The first meeting of the work group will be held on September 18-19, 2002, and is open to the public for observation purposes only. Statements from the public will be taken at the close of the meeting. EPA is not soliciting written comments and is not planning to formally respond to comments. The first meeting will focus on the: (1) Review of NRC recommendations for a risk based priority ranking process for CCL contaminants, (2) development of an overall implementation strategy, (3) identification of technical expertise needed to support the process, (4) formation of technical subgroups, if deemed necessary, and (5) identification and discussion of other relevant issues.

Small Systems Affordability Work Group Meeting

As part of the 2002 appropriations process, Congress directed EPA to “begin immediately to review the Agency's affordability criteria and how small system variance and exemption programs should be implemented for arsenic” (Conference Report 107-272, page 175). Congress further directed the Agency to prepare a report, which EPA submitted, “on its review of the affordability criteria and the administrative actions undertaken or planned to be undertaken by the Agency, as well as potential funding mechanisms for small community compliance and other legislative actions, which, if taken by the Congress, would best achieve appropriate extensions of time for small communities while also guaranteeing maximum compliance.” (Conference Report 107-272, page 175).

In evaluating treatment technologies for small systems, EPA currently uses an affordability threshold of 2.5% of median household income. EPA's national-level affordability criteria consist of two major components: an expenditure baseline and an affordability threshold. The expenditure baseline (derived from annual median household water bills) is subtracted from the affordability threshold (a share of median household income that EPA believes to be a reasonable upper limit for these water bills) to determine the expenditure margin (the maximum increase in household water bills that can be imposed by treatment and still be considered affordable). EPA compares the cost of treatment technologies against the available expenditure margin to determine if an affordable compliance technology can be identified. If EPA cannot identify an affordable compliance technology, then it attempts to identify a variance technology. Findings must be made at both the Federal and State level that compliance technologies are not affordable for small systems before a variance can be granted.

EPA is asking the NDWAC for advice on its national-level affordability criteria and the methodology used to establish these criteria. Taking into consideration the structure of the Safe Drinking Water Act and the limitations of readily available data and information sources, EPA is seeking the Council's opinion of the national level affordability criteria, methodology for deriving the criteria, and approach to applying those criteria to NPDWRs.

As part of the Council's review of EPA's national-level affordability criteria, the Agency is seeking input on (1) the Agency's overall approach, (2) alternatives, if any, to the use of median household income as a metric, (3) alternatives, if any, to 2.5% as a metric, (4) alternatives, if any, to calculating the expenditure baseline, (5) the usefulness of a separate criteria for ground and surface water systems, (6) including an evaluation of the potential availability of financial assistance, and (7) the need for making affordability determinations on a regional basis. Other issue areas may also be discussed. The meeting is open to the public; statements from the public will be taken at the close of the meeting. EPA is not soliciting written comments and is not planning to formally respond to comments.

Dated: August 14, 2002.
William Diamond,
Acting Director, Office of Ground Water and Drinking Water.

[FR Doc. 02-21200 Filed 8-19-02; 8:45 am]

BILLING CODE 6560-50-P